DEPARTMENT OF THE TREASURY

Internal Revenue Service

26 CFR Part 1

[REG-130700-14]

RIN 1545-BM41

Classification of Cloud Transactions and Transactions Involving Digital Content; Correction

AGENCY: Internal Revenue Service (IRS), Treasury.

ACTION: Correction to a notice of proposed rulemaking.

SUMMARY: This document contains a correction to a notice of proposed rulemaking (REG-130700-14) that was published in the Federal Register on August 14, 2019. The proposed regulations relate to classification of cloud transactions for purposes of the international provisions of the Internal Revenue Code.

DATES: Written or electronic comments and requests for a public hearing are still being accepted and must be received by November 12, 2019.

ADDRESSES: Submit electronic submissions via the Federal eRulemaking Portal at https://www.regulations.gov (indicate IRS and REG-130700-14) by following the online instructions for submitting comments. Once submitted to the Federal eRulemaking Portal, comments cannot be edited or withdrawn. The Department of the Treasury (Treasury Department) and the IRS will publish for public availability any comment received to its public docket, whether submitted electronically or in hard copy. Send hard copy submissions to CC:PA:LPD:PR (REG-130700-14), Room 5203, Internal Revenue Service, P.O. Box 7604, Ben Franklin Station, Washington, DC 20044. Submissions may be hand-delivered Monday through Friday between the hours of 8 a.m. and 4 p.m. to CC:PA:LPD:PR (REG-130700-14), Courier's Desk, Internal Revenue Service, 1111 Constitution Avenue NW, Washington, DC 20224.

FOR FURTHER INFORMATION CONTACT: Concerning the proposed regulations Robert Z. Kelley, (202) 317-6939; concerning submissions of comments and requests for a public hearing, email or call Regina L. Johnson at fdms.database@irscounsel.treas.gov or (202) 317-6901 (not toll-free numbers).

SUPPLEMENTARY INFORMATION:

Background

The proposed regulations that are the subject of this correction are under section 861 of the Internal Revenue Code.

Need for Correction

As published, the notice of proposed rulemaking (REG-130700-14) contains errors which may prove to be misleading and need to be clarified.

Correction of Publication

Accordingly, the notice of proposed rulemaking (REG-130700-14) that was the subject of FR Doc. 2019-17425, published at 84 FR 40317 (August 14, 2019), is corrected to read as follows:

1. On page 40320, first column, in the preamble, the sixteenth and seventeenth lines from the top of the second full paragraph, the language “of time, whether or not the content is transferred in a physical medium.” is corrected to read “of time.”

2. On page 40321, third column, in the preamble, the fourteenth line from the top of the second full paragraph, the language “licenses, and services, but there are” is corrected to read, “licenses, leases, and services, but there are”.

§ 1.861-18 [Corrected]

3. On page 40324, in the table for § 1.861-18, for the paragraph listed in “Paragraph” column, remove the language in the “Remove” column, and add in its place the language in the “Add” column.

Paragraph | Remove | Add
* * * * * * *
(c)(3), second sentence | the magnetic medium of a floppy disk, or in the main memory or hard drive of a computer, or in any other medium | any medium.
* * * * * * *

§ 1.861-18 [Corrected]

4. On page 40324, second column, in § 1.861-18, the seventh through ninth line from the top of paragraph (a)(3), the language “passage of time, whether or not the content is transferred in a physical medium. For example, digital content” is corrected to read “passage of time. For example, digital content”.

§ 1.861-18 [Corrected]

5. On page 40325, third column, in § 1.861-18, the second line of paragraph (i), the language “to transactions involving the transfer of” is corrected to read “to transactions not subject to § 1.861-19 involving the transfer of”.

Crystal Pemberton,
Senior Federal Register Liaison, Publications and Regulations Branch, Legal Processing Division, Associate Chief Counsel, (Procedure and Administration).

[FR Doc. 2019-21034 Filed 10-1-19; 8:45 am]

BILLING CODE 4830-01-P